ENVIRONMENTAL PROTECTION AGENCY

[EPA-HQ-OAR-2021-0115; FRL-9996-01-OMS]

Information Collection Request Submitted to OMB for Review and Approval; Comment Request; NESHAP for Paint Stripping and Miscellaneous Surface Coating at Area Sources (Renewal)

AGENCY: Environmental Protection Agency (EPA).

ACTION: Notice.

SUMMARY: The Environmental Protection Agency (EPA) has submitted an information collection request (ICR), NESHAP for Paint Stripping and Miscellaneous Surface Coating at Area Sources (EPA ICR Number 2268.06, OMB Control Number 2060-0607), to the Office of Management and Budget (OMB) for review and approval in accordance with the Paperwork Reduction Act. This is a proposed extension of the ICR, which is currently approved through June 30, 2022. Public comments were previously requested, via the Federal Register, on April 13, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before August 8, 2022.

ADDRESSES: Submit your comments, referencing Docket ID Number EPA-HQ-OAR-2021-0115, online using www.regulations.gov (our preferred method) or by mail to: EPA Docket Center, Environmental Protection Agency, Mail Code 2821T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: http://www.epa.gov/dockets.

Abstract: The National Emission Standards for Hazardous Air Pollutants (NESHAP) for Paint Stripping and Miscellaneous Surface Coating at Area Sources (40 CFR part 63, subpart HHHHHH) are part of the EPA Integrated Urban Strategy to reduce cancer risk from area sources under Section 112(k)(3)(C) of the Clean Air Act (CAA). These standards apply to existing facilities and new facilities that conduct paint stripping operations using methylene chloride-containing paint strippers, motor vehicle and mobile equipment surface coating operations, and miscellaneous surface coating operations located at area sources. In general, all NESHAP standards require initial notifications, performance tests, and periodic reports by the owners/operators of the affected facilities. They are also required to maintain records of the occurrence and duration of any startup, shutdown, or malfunction in the operation of an affected facility, or any period during which the monitoring system is inoperative. These notifications, reports, and records are used by the EPA to determine compliance with the standards.

Form Numbers: None.

Respondents/affected entities: Paint stripping and miscellaneous surface coating operations.

Respondent's obligation to respond: Mandatory (40 CFR part 63, subpart HHHHHH).

Estimated number of respondents: 39,812 (total).

Frequency of response: Initially and occasionally.

Total estimated burden: 102,000 hours (per year). Burden is defined at 5 CFR 1320.3(b).

Total estimated cost: $12,100,000 (per year), which includes $27,100 in annualized capital/startup and/or operation & maintenance costs.

Changes in the Estimates: There is an adjustment decrease in the total estimated burden as currently identified in the OMB Inventory of Approved Burdens. This decrease is not due to any program changes. The reason for the change in burden is related to an error in the prior ICR which was corrected in this renewal package. The prior ICR assumed that all sources would submit an annual notification of changes report, but this rule does not require sources to submit an annual report unless a change has occurred in information previously submitted in either the initial notification required by § 63.11175(a), Notification of Compliance, or a previous annual notification of changes report. We have adjusted this assumption, and based on OAQPS discussions with industry, we have assumed that 20 percent of existing sources will submit a notification of changes report each year; this includes submittal of a methylene chloride minimization plan for paint stripping sources using more than one ton of methylene chloride in the calendar year.

The prior ICR also assumed that no government-owned miscellaneous surface coating operations at area sources would need to update records of painter certification or records of filter efficiency each year. We have revised this assumption and estimate that the proportions of government-owned surface coating sources and commercial surface coating sources that must record this information each year will be the same. Therefore, in line with our assumptions for commercial surface coating sources, we have assumed that 20 percent of painters at government-owned surface coating sources will need to have their records updated each year, and that one percent of government-owned surface coating sources will opt to use filters which will require them to test and record the filter efficiency. This adjustment in the burden estimate for government-owned surface coating sources results in an increase in recordkeeping burden for those sources. However, the overall burden estimate for all types of sources, including government-owned surface coating sources, has still decreased due to our corrected assumption regarding annual notification of changes reports. Therefore, the number of sources predicted by this ICR to submit reports has been greatly reduced, and the associated labor and operation and maintenance costs have seen a corresponding reduction. However, the individual cost per respondent of submitting a notification or report has not changed.

Courtney Kerwin,
Director, Regulatory Support Division.

[FR Doc. 2022-14460 Filed 7-6-22; 8:45 am]

BILLING CODE 6560-50-P